FEDERAL MARITIME COMMISSION

Notice of Agreements Filed

The Commission hereby gives notice of the filing of the following agreements under the Shipping Act of 1984. Interested parties may submit comments on an agreement to the Secretary, Federal Maritime Commission, Washington, DC 20573, within ten days of the date this notice appears in the Federal Register. Copies of agreements are available through the Commission's Office of Agreements (202-523-5793 or tradeanalysis@fmc.gov).

Agreement No.: 010714-040.

Title: Trans-Atlantic American Flag Liner Operators Agreement.

Parties: A.P. Moller-Maersk A/S; American President Lines, Ltd.; American Roll-On Roll-Off Carrier, LLC; and Hapag-Lloyd USA, LLC.

Filing Party: Howard A. Levy, Esq.; 80 Wall Street, Suite 1117; New York, NY 10005.

Synopsis: The amendment changes the name of CP Ships (USA) LLC to Hapag-Lloyd USA, LLC.

Agreement No.: 201173.

Title: UMS P&O Ports Marine Terminal Agreement.

Parties: P&O Ports North America, Inc. and Universal Maritime Service Corporation.

Filing Party: Neal M. Mayer, Esq.; Hoppel, Mayer & Coleman; 1050 Connecticut Avenue, NW.; 10th Floor; Washington, DC 20036.

Synopsis: The agreement would authorize the parties to discuss, on a voluntary and non-binding basis, issues relating to possible cooperation with respect to matters relating to marine terminal operation and services in Baltimore.

By order of the Federal Maritime Commission.
Dated: September 15, 2006.
Bryant L. VanBrakle,
Secretary.

[FR Doc. 06-7798 Filed 9-19-06; 8:45 am]

BILLING CODE 6730-01-P